NEIGHBORHOOD REINVESTMENT CORPORATION

Sunshine Act Meeting; Audit Committee of the Board of Directors

TIME & DATE: 3:30 p.m., Thursday, December 5, 2013.

PLACE: NeighborWorks America—Gramlich Boardroom, 999 North Capitol Street NE., Washington DC 20002.

STATUS: Open.

CONTACT PERSON: Jeffrey Bryson, General Counsel/Secretary (202) 760-4101; jbryson@nw.org.

AGENDA:

I. Call to order

II. Executive Session with the Chief Audit Executive

III. Executive Session: Chief Audit Executive Performance Review

IV. Executive Session with Officers: Pending Litigation & Management Internal Operations Review

V. Internal Audit Reports with Management's Response

VI. Internal Audit Status Reports

VII. MHA/NFMC/EHLP Compliance

VIII. Annual Audit Update & Other External Audits

IX. OHTS Watch List Y Affiliation/Disaffiliation Report

X. Adjournment

Jeffrey T. Bryson,
General Counsel.

[FR Doc. 2013-28642 Filed 11-25-13; 4:15 pm]

BILLING CODE 7570-02-P